DEPARTMENT OF HEALTH AND HUMAN SERVICES

Health Resources and Services Administration

Notice That HRSA Will Not Fund HRSA-20-083: Quality Improvement Solutions for Sustained Epidemic Control Project

AGENCY: Health Resources and Services Administration (HRSA), Department of Health and Human Services.

ACTION: Notice.

SUMMARY: HRSA has decided not to provide funding for HRSA-20-083 Quality Improvement Solutions for Sustained Epidemic Control Project, supported by the President's Emergency Plan for AIDS Relief (PEPFAR).

FOR FURTHER INFORMATION CONTACT: Austin Demby, Ph.D., MPH, Acting Director, Office of Global Health, Office of the Administrator, HRSA, 5600 Fishers Lane, 09N09, Rockville, MD 20857, Phone: (301) 443-0581, Email: ademby@hrsa.gov.

SUPPLEMENTARY INFORMATION: Justification: HRSA has decided not to award funding under HRSA-20-083, Quality Improvement Solutions for Sustained Epidemic Control Project, which was published in Fiscal Year 2020. HRSA will consider the needs of the government and the program, and may publish an updated project Notice of Funding Opportunity for a new competitive cycle in Fiscal Year 2021.

Authority: United States PEPFAR authorized by Public Law 108-25 (the United States Leadership Against HIV/AIDS, Tuberculosis and Malaria Act of 2003) [22 U.S.C. 7601, et seq.]; and Public Law 110-293 (the Tom Lantos and Henry J. Hyde United States Global Leadership Against HIV/AIDS, Tuberculosis, and Malaria Reauthorization Act of 2008), as reauthorized and amended by Public Law 113-56 (the PEPFAR Stewardship and Oversight Act of 2013). See, e.g., 22 U.S.C. 7603 and 22 U.S.C. 151b-2(b)(1)(B), 2151b-2(c)(1), and 2151b-2(d)(6)(G)(ii).

Thomas J. Engels,
Administrator.

[FR Doc. 2020-21779 Filed 10-1-20; 8:45 am]

BILLING CODE 4165-15-P